SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 21, 2005.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street SW., Suite 8300, Washington, DC 20416

FOR FURTHER INFORMATION CONTACT: Sandra Johnston, Program Analyst, 202-205-7528, sandra.johnston@sba.gov or Curtis B. Rich, Management Analyst, 202-205-7030, curtis.rich@sba.gov.

SUPPLEMENTARY INFORMATION:

Title: “U.S. Small Business Administration Application for Section 504 Loan.”

Description of Respondents: Certified Development Companies regulated by SBA.

Form No: 1244.

Annual Responses: 5,200.

Annual Burden: 11,700.

Title: “7(a) Loan Closing Forms.”

Description of Respondents: 7(a) Participants.

Form No's: 159, 160, 160A.

Annual Responses: 115,000.

Annual Burden: 9,584.

Title: “Request for Borrowers (Financial Statement).”

Description of Respondents: SBA Borrowers or guarantor's who request compromise.

Form No: 770.

Annual Responses: 5,000.

Annual Burden: 5,000.

Title: “Servicing Agent Agreement.”

Description of Respondents: Certified Development Companies and SBA Borrowers.

Form No: 1506.

Annual Responses: 4,200.

Annual Burden: 4,200.

ADDRESSES: Send all comments regarding whether this information collection is necessary for the proper performance of the function of the agency, whether the burden estimates are accurate, and if there are ways to minimize the estimated burden and enhance the quality of the collection, to Carol Walker, Director, Civil Rights Compliance, Small Business Administration, 409 3rd Street SW., Suite 5000, Washington, DC 20416.

FOR FURTHER INFORMATION CONTACT: Carol Walker, Program Analyst, 205-7149, carol.walker@sba.gov or Curtis B. Rich, Management Analyst, 202-205-7030, curtis.rich@sba.gov.

SUPPLEMENTARY INFORMATION:

Title: “Notice to New SBA Borrowers.”

Description of Respondents: New SBA Borrowers.

Form No: 793.

Annual Responses: 486,000.

Annual Burden: 487,600.

Jacqueline White,
Chief, Administrative Information Branch.

[FR Doc. 05-989 Filed 1-18-05; 8:45 am]

BILLING CODE 8025-01-P